DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroads have petitioned the Federal Railroad Administration (FRA) seeking approval for the discontinuance or modification of the signal system or relief from the requirements of 49 CFR Part 236 as detailed below.

[Docket No. FRA-2000-7037]

Applicant: Burlington Northern and Santa Fe Railway, Mr. William G. Peterson, Director Signal Engineering, 4515 Kansas Avenue, Kansas City, Kansas 66106.

Burlington Northern and Santa Fe Railway seeks approval of the proposed modification of the traffic control system, on the single main track, between Clontarf, Minnesota, milepost 138.5 and Tintah, Minnesota, milepost 192.7, on Dakota Division, Morris Subdivision, consisting of the following:

1. Conversion of the power-operated switch to hand operation, and discontinuance and removal of associated controlled signals 53LA, 53LB, and 53R, at West Clontarf, near milepost 138.5;

2. Conversion of the power-operated switch to hand operation, equipped with an electric lock, and discontinuance and removal of associated controlled signals 39RA, 39RB, and 39L, at East End Herman, near milepost 176.2; and

3. Conversion of the power-operated switch to hand operation, and discontinuance and removal of associated controlled signals 31RA, 31RB, and 31L, at East End Tintah, near milepost 192.7.

The reasons given for the proposed changes are that the siding switches at East Clontarf and West Tintah, were removed in the late 70's; the West End of Herman was converted to hand operation, equipped with an electric lock, when the siding was converted to a Unit Grain Facility, and the switch relocated; and the proposed changes are in conjunction with a pole line elimination project.

Any interested party desiring to protest the granting of an application shall set forth specifically the grounds upon which the protest is made, and contain a concise statement of the interest of the protestant in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.-5 p.m.) at DOT Central Docket Management Facility, Room PI-401 (Plaza Level), 400 Seventh Street, SW., Washington, DC 20590-0001. All documents in the public docket are also available for inspection and copying on the Internet at the docket facility's Web site at http://dms.dot.gov.

FRA expects to be able to determine these matters without an oral hearing. However, if a specific request for an oral hearing is accompanied by a showing that the party is unable to adequately present his or her position by written statements, an application may be set for public hearing.

Issued in Washington, DC on May 25, 2000.
Grady C. Cothen, Jr.,
Deputy Associate Administrator for Safety Standards and Program Development.

[FR Doc. 00-14059 Filed 6-5-00; 8:45 am]

BILLING CODE 4910-06-P